Executive Order 13759 of January 12, 2017

Designating the World Organisation for Animal Health as a Public International Organization Entitled To Enjoy Certain Privileges, Exemptions, and Immunities

Section 1. Designation. By the authority vested in me as President by the Constitution and the laws of the United States of America, including section 1 of the International Organizations Immunities Act (22 U.S.C. 288), and having found that the World Organisation for Animal Health (also known by its historical acronym OIE) is a public international organization in which the United States participates within the meaning of the International Organizations Immunities Act, I hereby designate the World Organisation for Animal Health as a public international organization entitled to enjoy the privileges, exemptions, and immunities provided by the International Organizations Immunities Act. This designation is not intended to abridge in any respect privileges, exemptions, or immunities that such organization otherwise may have acquired or may acquire by law.

Sec. 2. General Provisions. (a) Nothing in this order shall be construed to impair or otherwise affect:

(1) the authority granted by law to an executive department, agency, or the head thereof; or

(2) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) This order is not intended to, and does not, impair any right or benefit, substantive or procedural, enforceable at law or in equity that arises as a consequence of the designation in section 1 of this order.

THE WHITE HOUSE,

January 12, 2017.

[FR Doc. 2017-01168

Filed 1-13-17; 11:15 am]

Billing code 3295-F7-P